DEPARTMENT OF HEALTH AND HUMAN SERVICES

National Institutes of Health

National Institute of Mental Health; Amended Notice of Meeting

Notice is hereby given of a change in the meeting of the National Institute of Mental Health Special Emphasis Panel, February 18, 2000, 11 AM to February 18, 2000, 1 PM, Neuroscience Center, National Institutes of Health, 6001 Executive Blvd., Bethesda, MD, 20892 which was published in the Federal Register on February 9, 2000, 65 FR 6387.

The meeting will now be held on March 24, 2000 at the same place from 11:30 AM to 1:30 PM. The meeting is closed to the public.

Dated: March 15, 2000.
LaVerne Y. Stringfield,
Director, Office of Federal Advisory Committee Policy.

[FR Doc. 00-7046 Filed 3-21-00; 8:45 am]

BILLING CODE 4140-01-M